ENVIRONMENTAL PROTECTION AGENCY

40 CFR Parts 52 and 81

[EPA-R06-OAR-2006-0386; FRL-8291-6]

Approval and Promulgation of Implementation Plans; Texas; El Paso County Carbon Monoxide Redesignation to Attainment, and Approval of Maintenance Plan

AGENCY: Environmental Protection Agency (EPA).

ACTION: Withdrawal of direct final rule.

SUMMARY: On January 23, 2007 (72 FR 2776), EPA published a direct final rule approving the redesignation of the El Paso, Texas, carbon monoxide (CO) nonattainment area to attainment for the CO National Ambient Air Quality Standard (NAAQS) and the CO maintenance plan with its associated Motor Vehicle Emission Budgets (MVEBs). EPA also found the MVEBs adequate. The direct final action was published without prior proposal because EPA anticipated no adverse comment. EPA stated in the direct final rule that if EPA received relevant adverse comment by February 22, 2007, EPA would publish a timely withdrawal in the Federal Register. EPA subsequently received a timely relevant adverse comment on the direct final rule. Therefore, EPA is withdrawing the direct final approval, as well as the finding of adequacy for the MVEBs. EPA will address the comment in a subsequent final action based on the parallel proposal also published on January 23, 2007 (72 FR 2825).

DATES: The direct final rule published on January 23, 2007 (72 FR 2776), is withdrawn as of March 26, 2007.

FOR FURTHER INFORMATION CONTACT: Jeffrey Riley, Air Planning Section, (6PD-L), Environmental Protection Agency, Region 6, 1445 Ross Avenue, Suite 700, Dallas, Texas 75202-2733, telephone (214) 665-8542; fax number 214-665-7263; e-mail address riley.jeffrey@epa.gov.

List of Subjects

40 CFR Part 52

Environmental protection, Air pollution control, Carbon monoxide, Intergovernmental relations.

40 CFR Part 82

Environmental protection, Air pollution control, National parks, Wilderness areas.

Dated: March 16, 2007.
Lawrence E. Starfield,
Acting Regional Administrator, Region 6.

Accordingly, the amendments to 40 CFR 52.2270(e) and to 40 CFR 81.344 published in the Federal Register on January 23, 2007 (72 FR 2776), which were to become effective on March 26, 2007, are withdrawn.

[FR Doc. E7-5482 Filed 3-23-07; 8:45 am]

BILLING CODE 6560-50-P